DEPARTMENT OF THE INTERIOR

Bureau of Land Management

[BLM_CO_FRN_MO4500180361; COC-63081-01]

Public Land Order No. 7950; Withdrawal for Upper Colorado River Special Recreation Management Area; Colorado

AGENCY: Bureau of Land Management, Interior.

ACTION: Public land order.

SUMMARY: This Public Land Order (PLO) withdraws 12,121 acres of public lands from settlement, sale, location, and entry under the general land laws, including from location and entry under the United States mining laws, and 939.56 acres of reserved Federal mineral interest from location and entry under the United States mining laws, for a period of 20 years to protect scenic and recreation values in the Upper Colorado River Special Recreation Management Area, subject to valid existing rights.

DATES: This PLO takes effect on October 21, 2024.

ADDRESSES: Information regarding the withdrawal, including environmental and other reviews, is available at the Bureau of Land Management (BLM) Colorado State Office, Denver Federal Center Building 40, Lakewood, Colorado 80215.

FOR FURTHER INFORMATION CONTACT: Jennifer Jardine, Realty Specialist, BLM Colorado State Office, telephone: 970-385-1224, email: jjardine@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of this withdrawal is to maintain the current condition of the lands identified to protect the recreational sites, settings, and opportunities within the withdrawal area, and to protect the important resource values including riparian, ecological, cultural, paleontological, historic, and elk and deer critical winter habitat. Both the public lands and the Federal mineral interest lands remain open to leasing under the mineral or geothermal leasing laws. The Upper Colorado River Special Recreation Management Area was previously withdrawn by PLO No. 7466 (65 FR 61182), which expired on October 15, 2020. A Notice of Proposed Withdrawal and Public Meeting was published in the Federal Register on July 1, 2022 (87 FR 39547).

Order

By virtue of the authority vested in the Secretary of the Interior by section 204 of the Federal Land Policy and Management Act of 1976, 43 U.S.C. 1714, it is ordered as follows:

1. Subject to valid existing rights, the following described lands are hereby withdrawn from settlement, sale, location, and entry under the general land laws, including from location and entry under the United States mining laws, but not from leasing under the mineral or geothermal leasing laws, to protect scenic and recreation values in the Upper Colorado River Special Recreation Management Area, Colorado, for a period of 20 years.

Public Lands

Sixth Principal Meridian, Colorado

T. 1 N., R. 79 W.,

Sec. 8, Parcels A, B, C, and D;

Sec. 17, Parcels A and B, NE¼NW¼, S½NW¼, and N½SW¼;

Sec. 18, lot 3.

T. 1 N., R. 80 W.,

Sec. 13, lots 1 thru 4;

Sec. 14, SW¼SE¼ and that portion of the S½SW¼ lying southerly of the northerly right-of-way fence of Grand County Road No. 33, described in the warranty deed recorded April 23, 1999, with Reception No. 99004513, and depicted on Survey Plat LS400, filed on July 13, 1995, in the official records of Grand County, Colorado;

Sec. 15, lots 9 and 11, S½SW¼, S½SE¼, and a metes-and-bounds parcel located in the N½SW¼ and described in the warranty deed recorded April 23, 1999, with Reception No. 99004513, and depicted on Survey Plat LS398, filed July 13, 1995, in the official records of Grand County, Colorado;

Sec. 16, those portions of the metes-and-bounds parcels located in the S½SW¼ and S½SE¼ and described in the warranty deed recorded April 23, 1999, with Reception No. 99004513, and depicted on Survey Plats LS398 and LS399, filed July 13, 1995, in the official records of Grand County, Colorado, and that portion of the metes-and-bounds parcel located in the S½SW¼ and described in the deed in Book 127, page 567, recorded November 12, 1958, with Reception No. 88584, and the deed in Book 128, page 235, recorded February 10, 1959, with Reception No. 89020, in the official records of Grand County, Colorado;

Sec. 19, NE¼SE¼ and a metes-and-bounds parcel located in the N½NE¼ and described in the warranty deed recorded April 23, 1999, with Reception No. 99004513, in the official records of Grand County, Colorado;

Sec. 20, lots 2 and 3, S½NE¼, S½NW¼, and NE¼SW¼;

Sec. 21, N½NE¼, S½NW¼, and that portion of the N½NW¼ lying northerly of the centerline of Grand County Road No. 33 and described in the warranty deed recorded April 23, 1999, with Reception No. 99004513, and depicted on Survey Plat LS399, filed July 13, 1995, in the official records of Grand County, Colorado, and that portion of the metes-and-bounds parcel located in the N½NW¼ and described in the deed in Book 127, page 567, recorded November 12, 1958, with Reception No. 88584, and in the deed in Book 128, page 235, recorded February 10, 1959, with Reception No. 89020, in the official records of Grand County, Colorado;

Sec. 22, lots 1 thru 4.

T. 1 N., R. 81 W.,

Sec. 13, SW¼SW¼;

Sec. 23, SE¼NW¼, NE¼SW¼, and NE¼SE¼;

Sec. 24, S½NE¼, S½NW¼, and N½SE¼;

Sec. 27, lots 1 thru 15;

Sec. 28, SE¼SW¼ and SE¼;

Sec. 32, E½ and SW¼;

Sec. 33, N½NE¼, SW¼NE¼, and W½.

T. 1 S., R. 81 W.,

Sec. 5, lots 8 and 9;

Sec. 6, lots 6 and 7 and lots 9 thru 18;

Sec. 7, lots 5 thru 19;

Sec. 18, lots 1 and 2 and E½NW¼.

T. 1 S., R. 82 W.,

Sec. 12, lots 1 thru 5, SW¼NE¼, E½SW¼, SW¼SW¼, and W½SE¼;

Sec. 13, lots 1 thru 9, W½SW¼, and that portion of tract 53 lying westerly of the medial line, an ambulatory line, of the Colorado River;

Sec. 14, SE¼SW¼, E½SE¼, and SW¼SE¼;

Sec. 22, SE¼;

Sec. 23, NE¼, E½NW¼, SW¼, and N½SE¼;

Sec. 24, lots 1, 2, and 3, NW¼NW¼, and S½NW¼;

Sec. 27, SW¼NW¼, a metes-and-bounds parcel located in the W½NE¼ and E½NW¼ and described in the warranty deed in Book 420, pages 660-662, recorded June 26, 1987, with Reception No. 258382, in the official records of Grand County, Colorado, and a metes-and-bounds parcel located in the N½NW¼ and described in the deed in Book 695, pages 988-999C, recorded September 29, 1986, with Reception No. 374902, in the official records of Grand County, Colorado;

Sec. 28, lots 4, 5, and 6, NE¼NE¼, S½NE¼, NE¼SW¼, NW¼SE¼, and SE¼SE¼;

Sec. 32, those portions of unpatented M.S. No. 13963 and tract 82 located in the E½, excepting M.S. Nos. 18347 A and 18670;

Sec. 33, lot 1, lots 3 thru 6, lots 8 thru 11, NE¼, E½NW¼, SW¼NW¼, and that portion of the Bona Dea Placer located in sec. 33;

Sec. 34, lot 1 and NW¼NW¼.

T. 2 S., R. 82 W.,

Sec. 4, lots 12, 14, 15, 17, 18, and 19, lots 26 thru 30, S½NW¼, NW¼SW¼, and that portion of the Bona Dea Placer located in sec. 4;

Sec. 5, lots 5, 6, and 11, lots 14 thru 22, lots 25 and 26, S½NE¼, N½SE¼, and that portion of the Bona Dea Placer located in sec. 5;

Sec. 6, lots 20, 30, 31, 32, 37, and 38, S½NE¼, SE¼NW¼, E½SW¼, and SE¼;

Sec. 7, lots 5 thru 7, lots 11 thru 21, NE¼NE¼, SE¼SW¼, and SW¼SE¼;

Sec. 18, lots 5 thru 12 and lots 14 thru 17.

T. 2 S., R. 83 W.,

Sec. 12, lot 4;

Sec. 13, lots 1 thru 4, W½NE¼, E½SW¼, and W½SE¼;

Sec. 23, E½NE¼, S½SW¼, NE¼SE¼, SW¼SE¼, N½SE¼SE¼, N½SW¼SE¼SE¼, and N½SE¼SE¼SE¼;

Sec. 24, lot 1, W½NE¼, W½, and W½SE¼;

Sec. 25, NW¼;

Sec. 26, NW¼NW¼NE¼, S½NW¼NE¼, S½NE¼, and NW¼.

The areas described aggregate 12,121 acres.

Reserved Federal Mineral Interests

Sixth Principal Meridian, Colorado

T. 1 N., R. 80 W.,

Sec. 20, NW¼NW¼.

T. 1 N., R. 81 W.,

Sec. 28, N½SW¼ and SW¼SW¼;

Sec. 29, SE¼SE¼.

T. 1 S., R. 82 W.,

Sec. 14, SW¼SW¼;

Sec. 22, N½NE¼, SW¼NE¼, and SW¼;

Sec. 23, NW¼NW¼;

Sec. 26, lot 1 and SW¼NW¼;

Sec. 27, lots 1 and 2 and N½SE¼;

Sec. 33, that portion of tract 70 located in sec. 33.

T. 2 S., R. 82 W.,

Sec. 4, lot 22;

Sec. 7, that portion of tract 41 located in sec. 7.

The areas described aggregate 939.56 acres.

2. The withdrawal made by this order does not alter the applicability of those public land laws governing the use of the land other than under the general land laws and the United States mining laws. The public lands described in this order will remain open to such other forms of disposition as may be allowed by law on the public lands. Licenses, permits, and cooperative agreements for discretionary land use authorizations of a temporary nature that would not significantly impact the values to be protected may be allowed with the approval of the authorized officer.

3. This withdrawal will expire 20 years from the effective date of this Order, unless, as a result of a review conducted prior to the expiration date pursuant to section 204(f) of the Federal Land Policy and Management Act of 1976, 43 U.S.C. 1714(f), the Secretary determines that the withdrawal should be extended.

(Authority: 43 U.S.C. 1714)

Robert T. Anderson,
Solicitor.

[FR Doc. 2024-24198 Filed 10-18-24; 8:45 am]

BILLING CODE 4331-16-P